EXPORT-IMPORT BANK OF THE U.S.

[Public Notice 2011-076]

Agency Information Collection Activities: Final Collection; Comment Request

AGENCY: Export-Import Bank of the U.S.

ACTION: Submission for OMB review and comments request.

Form Title: Used Equipment Questionnaire (EIB 11-03).

SUMMARY: The Export-Import Bank of the United States (Ex-Im Bank), as a part of its continuing effort to reduce paperwork and respondent burden, invites the general public and other Federal Agencies to comment on the proposed information collection, as required by the Paperwork Reduction Act of 1995.

The collection will provide information needed to determine compliance and creditworthiness for transaction requests submitted to Ex-Im Bank under its insurance, guarantee, and direct loan programs. Information presented in this form will be considered in the overall evaluation of the transaction, including Export-Import Bank's determination of the appropriate term for the transaction.

The form can be view at: http://www.exim.gov/pub/pending/eib11-03.pdf.

DATES: Comments should be received on or before December 23, 2011 to be assured of consideration.

ADDRESSESES: Comments maybe submitted electronically on http://www.regulations.gov or by mail to Ms. Michele Kuester, Export-Import Bank of the United States, 811 Vermont Ave., NW., Washington, DC 20571

SUPPLEMENTARY INFORMATION: Titles and Form Number: EIB 11-03 Used Equipment Questionnaire.

OMB Number: 3048-xxxx.

Type of Review: New.

Need and Use: The information collected will provide information needed to determine compliance and creditworthiness for transaction requests submitted to the Export Import Bank under its insurance, guarantee, and direct loan programs.

Affected Public: This form affects entities involved in the export of U.S. goods and services.

Annual Number of Respondents: 1,000.

Estimated Time per Respondent: 15 minutes.

Government Annual Burden Hours: 250 hours.

Frequency of Reporting or Use: On Occasion.

Total Cost to the Government: $9,680.00.

Sharon A. Whitt,
Agency Clearance Officer.

[FR Doc. 2011-27246 Filed 10-21-11; 8:45 am]

BILLING CODE 6690-01-P